CHEMICAL SAFETY AND HAZARD INVESTIGATION BOARD

Sunshine Act Meeting

In connection with its investigation into the cause of an dust explosion and fire that occurred at the CTA Acoustics manufacturing plant in Corbin, Kentucky, on February 20, 2003, the United States Chemical Safety and Hazard Investigation Board (CSB) announces that it will convene a Public Meeting starting at: 7 p.m. on February 15, 2005 at the London Community Center, 529 South Main Street, London, KY 40741; Telephone: (606) 864-7777.

At the meeting CSB staff will present to the Board the results of their investigation into this incident, including an analysis of the incident together with a discussion of the key findings, root and contributing causes, and draft recommendations. The CSB staff presentation will focus on four key safety issues: Combustible Dust Hazard Awareness, Work Practices, Building Design, and Product Stewardship.

The 2003 incident damaged the CTA Acoustics manufacturing plant in Corbin, Kentucky, fatally injuring seven workers. The facility produced fiberglass insulation for the automotive industry. CSB investigators have found that the explosion was fueled by a phenolic resin dust accumulated in a production area, likely ignited by flames from a malfunctioning oven. The resin was used in producing fiberglass mats.

After the staff presentation, the Board will allow a time for public comment. Following the conclusion of the public comment period, the Board will consider whether to vote to approve the final report and recommendations.

All staff presentations are preliminary and are intended solely to allow the Board to consider in a public forum the issues and factors involved in this case. No factual analyses, conclusions or findings should be considered final. Only after the Board has considered the staff presentation and approved the staff report will there be an approved final record of this incident.

The meeting will be open to the public. Please notify CSB if a translator or interpreter is needed, at least 5 business days prior to the public meeting. For more information, please contact the Chemical Safety and Hazard Investigation Board at (202) 261-7600, or visit our Web site at: http://www.csb.gov.

Christopher W. Warner,
General Counsel.

[FR Doc. 05-1700 Filed 1-26-05; 12:02 pm]

BILLING CODE 6350-01-P